DEPARTMENT OF STATE

[Public Notice 6392]

Culturally Significant Objects Imported for Exhibition Determinations: “Art and Love in Renaissance Italy”

ACTION: Notice, correction

.

SUMMARY: On August 26, 2008, notice was published on page 50394 of the Federal Register (volume 73, number 166) of determinations made by the Department of State pertaining to the exhibit, “Art and Love in Renaissance Italy.” The referenced notice is corrected as to additional objects to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the additional objects to be included in the exhibition “Art and Love in Renaissance Italy”, imported from abroad for temporary exhibition within the United States, are of cultural significance. The additional objects are imported pursuant to loan agreements with the foreign owners or custodians. I also determine that the exhibition or display of the exhibit objects at The Metropolitan Museum of Art, New York, New York, from on or about November 11, 2008, until on or about February 16, 2009; and at the Kimbell Art Museum, Fort Worth, Texas, from on or about March 15, 2009 until on or about June 14, 2009; and at possible additional exhibitions or venues yet to be determined, is in the national interest. Public Notice of these Determinations is ordered to be published in the Federal Register.

FOR FURTHER INFORMATION CONTACT: For further information, including a list of the exhibit objects, contact Wolodymyr Sulzynsky, Attorney-Adviser, Office of the Legal Adviser, U.S. Department of State (telephone: (202) 453-8050). The address is U.S. Department of State, SA-44, 301 4th Street, SW., Room 700, Washington, DC 20547-0001.

Dated: October 5, 2008.
C. Miller Crouch,
Principal Deputy Assistant Secretary for Educational and Cultural Affairs, Department of State.

[FR Doc. E8-24333 Filed 10-10-08; 8:45 am]

BILLING CODE 4710-05-P